POSTAL SERVICE BOARD OF GOVERNORS

Sunshine Act Meeting: Notification of Item Added to Meeting Agenda

Date of meeting: June 4, 2001.

Status: Closed.

Previous Announcement: 66 FR 28764, May 24, 2001.

Addition: Postal Rate Commission Opinion and Recommended Decision in Docket No. MC2001-1, Experimental Presorted Priority Mail Rate Categories. By paper vote on May 29 and 30, 2001, the Board of Governors of the United States Postal Service voted unanimously to add this item to the agenda of its closed meeting and that no earlier announcement was possible. The General Counsel of the United States Postal Service has certified that in her opinion discussion of this item may be properly closed to public observation under the Government in the Sunshine Act.

Contact Person for More Information: David G. Hunter, Secretary of the Board, U.S. Postal Service, 475 L'Enfant Plaza SW., Washington, DC 20260-1000. Telephone (202) 268-4800.

David G. Hunter,
Secretary.

[FR Doc. 01-14132 Filed 5-31-01; 3:15 pm]

BILLING CODE 7710-12-M